DEPARTMENT OF STATE

[Public Notice 4321]

Bureau of Consular Affairs, Office of Overseas Citizens Services (CA/OCS); Notice of Information Collection under Emergency Review: Form DS-3072, Emergency Loan Application and Evacuation Documentation; OMB Control Number 1405-XXXX

AGENCY: Department of State.

ACTION: Notice.

SUMMARY: The Department of State has submitted the following information collection request to the Office of Management and Budget (OMB) for review and approval in accordance with the emergency review procedures of the Paperwork Reduction Act of 1995.

Type of Request: Emergency Review.

Originating Office: Bureau of Consular Affairs (CA/OCS/PRI).

Title of Information Collection: Emergency Loan Application and Evacuation Documentation.

Frequency: Occasionally.

Form Number: DS-3072.

Respondents: U.S. citizens abroad (and third country nationals, where eligible) who need evacuation, repatriation, or emergency medical and dietary assistance.

Estimated Number of Respondents: Normally, approximately 500 respondents per year. The number of respondents may be much larger in emergency circumstances when lives are endangered by war, civil unrest, or natural disaster, but such circumstances are extraordinary and the number of respondents cannot be predicted.

Average Hours Per Response: 10 minutes.

Total Estimated Burden: 83.3 hours in normal circumstances.

The proposed information collection is published to obtain comments from the public and affected agencies. Emergency review and approval of this collection has been requested from OMB on or before March 30, 2003. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Michael Meszaros, Bureau of Consular Affairs, Office of Policy Review and Interagency Liaison, U.S. Department of State, 1800 G Street NW., Suite 2100, Washington, DC 20006, who may be reached on 202-312-9750.

Dated: March 19, 2003.
Maura Harty,
Assistant Secretary, Bureau of Consular Affairs, Department of State.

[FR Doc. 03-7347 Filed 3-26-03; 8:45 am]

BILLING CODE 4710-06-P